DEPARTMENT OF ENERGY

Federal Energy Regulatory Commission

Combined Notice of Filings #2

Take notice that the Commission received the following electric rate filings:

Docket Numbers: ER13-2386-000.

Applicants: Lakeswind Power Partners, LLC.

Description: Supplement to September 16, 2013 Lakeswind Power Partners, LLC tariff filing.

Filed Date: 10/7/13.

Accession Number: 20131007-5115.

Comments Due: 5 p.m. ET 10/28/13.

Docket Numbers: ER14-44-000.

Applicants: Midcontinent Independent System Operator, Inc.

Description: 10-07-13 Scheds 7 8 9 re PPI to be effective 6/1/2013.

Filed Date: 10/7/13.

Accession Number: 20131007-5086.

Comments Due: 5 p.m. ET 10/28/13.

Docket Numbers: ER14-45-000.

Applicants: Midcontinent Independent System Operator, Inc.

Description: 10-07-2013 SA 1558 Forward Energy-ATC LGIA to be effective 10/8/2013.

Filed Date: 10/7/13.

Accession Number: 20131007-5095.

Comments Due: 5 p.m. ET 10/28/13.

Docket Numbers: ER14-46-000.

Applicants: AEP Texas North Company.

Description: TNC-Concho Valley EC-Golden Spread EC IA Amend #1 to be effective 9/10/2013.

Filed Date: 10/7/13.

Accession Number: 20131007-5109.

Comments Due: 5 p.m. ET 10/28/13.

Take notice that the Commission received the following foreign utility company status filings:

Docket Numbers: FC14-1-000.

Applicants: Boryszewo Wind Invest Sp. Zoo.

Description: Self-Certification of Foreign Utility Company Status of Boryszewo Wind Invest Sp. Zoo.

Filed Date: 10/7/13.

Accession Number: 20131007-5014.

Comments Due: 5 p.m. ET 10/28/13.

Docket Numbers: FC14-2-000.

Applicants: Krupy Wind Invest Sp. Zoo.

Description: Self-Certification of Foreign Utility Company Status of Krupy Wind Invest Sp. Zoo.

Filed Date: 10/7/13.

Accession Number: 20131007-5016.

Comments Due: 5 p.m. ET 10/28/13.

Docket Numbers: FC14-3-000.

Applicants: Nowy Jaroslaw Invest Sp. Zoo.

Description: Self-Certification of Foreign Utility Company Status of Nowy Jaroslaw Invest Sp. Zoo.

Filed Date: 10/7/13.

Accession Number: 20131007-5017.

Comments Due: 5 p.m. ET 10/28/13.

Docket Numbers: FC14-4-000.

Applicants: Stary Jarolslaw Invest Sp. Zoo.

Description: Self-Certification of Foreign Utility Company Status of Stary Jarolslaw Invest Sp. Zoo.

Filed Date: 10/7/13.

Accession Number: 20131007-5019.

Comments Due: 5 p.m. ET 10/28/13.

Docket Numbers: FC14-5-000.

Applicants: Sandringham Solar Energy Partnership.

Description: Self-Certification of Foreign Utility Company Status of Sandringham Solar Energy Partnership.

Filed Date: 10/7/13.

Accession Number: 20131007-5020.

Comments Due: 5 p.m. ET 10/28/13.

Docket Numbers: FC14-6-000.

Applicants: Woodville Solar Energy Partnership.

Description: Self-Certification of Foreign Utility Company Status of Woodville Solar Energy Partnership.

Filed Date: 10/7/13.

Accession Number: 20131007-5021.

Comments Due: 5 p.m. ET 10/28/13.

Docket Numbers: FC14-7-000.

Applicants: Bettyhill Wind Energy Limited.

Description: Self-Certification of Foreign Utility Company Status of Bettyhill Wind Energy Limited.

Filed Date: 10/7/13.

Accession Number: 20131007-5022.

Comments Due: 5 p.m. ET 10/28/13.

Docket Numbers: FC14-8-000.

Applicants: Gorzyca Wind Invest Sp. Zoo.

Description: Self-Certification of Foreign Utility Company Status of Gorzyca Wind Invest Sp. Zoo.

Filed Date: 10/7/13.

Accession Number: 20131007-5023.

Comments Due: 5 p.m. ET 10/28/13.

Docket Numbers: FC14-9-000.

Applicants: Pekanino Wind Invest Sp. Zoo.

Description: Self-Certification of Foreign Utility Company Status of Pekanino Wind Invest Sp. Zoo.

Filed Date: 10/7/13.

Accession Number: 20131007-5024.

Comments Due: 5 p.m. ET 10/28/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2013.
Nathaniel J. Davis, Sr.,
Deputy Secretary.

[FR Doc. 2013-24457 Filed 10-11-13; 8:45 am]

BILLING CODE 6717-01-P